DEPARTMENT OF EDUCATION

National Institute on Disability and Rehabilitation Research; Notice of a Final Funding Priority for Fiscal Year 2000 for one Disability and Rehabilitation Research Project (DRRP)

AGENCY: Office of Special Education and Rehabilitative Services, Department of Education.

SUMMARY: The Assistant Secretary for the Office of Special Education and Rehabilitative Services announces a final funding priority for one DRRP under the National Institute on Disability and Rehabilitation Research (NIDRR) for fiscal year 2000. The Assistant Secretary takes this action to focus research attention on an area of national need. The priority is intended to improve rehabilitation services and outcomes for individuals with disabilities.

EFFECTIVE DATE: This priority takes effect on August 9, 2000.

FOR FURTHER INFORMATION CONTACT: Donna Nangle. Telephone: (202) 205-5880. If you use a telecommunications device for the deaf (TDD) may call the TDD number at (202) 205-4475. Internet: donna—nangle@ed.gov

Individuals with disabilities may obtain this document in an alternate format (e.g., Braille, large print, audio tape, or computer diskette) on request to the contact person listed in the preceding paragraph.

SUPPLEMENTARY INFORMATION: This notice contains a final priority under the Disability and Rehabilitation Research Projects and Centers Program for a DRRP on Information Technology Technical Assistance and Training (ITTA).

The final priority refers to NIDRR's Long Range Plan (the Plan). The Plan can be accessed on the World Wide Web at: http://www.ed.gov/legislation/FedRegister/other/1999-12/68576.html.

This final priority supports the National Education Goal that calls for every American to possess the skills necessary to compete in a global economy.

The authority for the Assistant Secretary to establish research priorities by reserving funds to support particular research activities is contained in sections 202(g) and 204 of the Rehabilitation Act of 1973, as amended (29 U.S.C. 762 and 764). Regulations governing this program are found in 34 CFR Part 350.

Note: This notice of a final priority does not solicit applications. A notice inviting applications is published in this issue of the Federal Register.

Analysis of Comments and Changes

On May 8, 2000 the Assistant Secretary published a notice of a proposed priority in the Federal Register (64 FR 26588). The Department of Education received 3 letters commenting on the notice of proposed priority by the deadline date. Technical and other minor changes—and suggested changes the Assistant Secretary is not legally authorized to make under statutory authority—are not addressed.

Comment: The needs assessment developed under Activity 1 and the training materials developed under Activity 2 should reflect both current technology and technology that is immanent. In doing so, the grantee should be required to collaborate with the Federal Communications Commission, the National Institute of Standards, and other agencies that have advanced technology operations.

Discussion: NIDRR agrees that the needs assessment and the training materials should reflect both current technology and foreseeable technological developments. NIDRR also agrees that collaboration with relevant Federal agencies is important and is a required component of the priority. The applicant may propose to coordinate with other agencies and organizations as deemed necessary. The peer review process will evaluate the merit of each applicant's proposed activities.

Changes: None.

Comment: Considering the rapid development of both the host technologies and the practice of universal design, it is important that training materials and instructional modules developed under activity 2 be developed and provided in ways that are amenable to very rapid update and renewal.

Discussion: NIDRR agrees that it is important for training materials to be reflective of rapid technological change. NIDRR anticipates that the successful applicant will propose activities that take into account rapid technological change as discussed in the background statement. The peer review process will evaluate the merits of each applicant's proposed activities.

Changes: None.

Comment: One commenter recommended that an activity be added that requires the grantee to develop and maintain a list of “best practices” and to make that list available to other organizations working in this field.

Discussion: An applicant may propose to develop and maintain a list of best practices. NIDRR elects to allow the applicant the choice as to whether to include such an activity. The peer review process will evaluate the merits of each applicant's proposed activities.

Changes: None.

Comment: One commenter stated that the background statement, specifically the fourth paragraph of the background statement that talks about “a shortage of individuals trained to educate consumers, consumer service professionals, technical writers, web developers, marketers, and other information technology related professionals about accessible and usable electronic and information technologies” should be expanded to include telecommunications products.

Discussion: Telecommunications products is included in the definition of electronic and information technology in the notice of proposed rule making published in the Federal Register (65 FR 17351) by the Access Board on March 31, 2000. Based on this definition NIDRR expects that telecommunications products will be considered in each application.

Changes: None.

Comment: The target audiences mentioned in Activity 1 should focus on those who are tasked with implementing Section 508 and Section 255 and include state procurement officers, designers of telecommunications and information technology products, others within information technology and telecommunications companies who make decisions regarding product design (including product managers, marketers, sales and customer service staff, human factors professionals, regulatory compliance specialists, and executives), web developers of government sites, consumers and disability-related organizations, and relevant industry groups and professional associations.

Discussion: NIDRR believes that the language in Activity 1, while specific, is not limiting. The applicant is free to include other audiences and/or elaborate upon identified audiences. The peer review process will evaluate the merits of each applicant's proposed activities.

Changes: None.

Comment: One commenter recommended that this center be required to coordinate efforts with other Federal grantees and contractors responsible for providing training and technical assistance related to Section 508 and Section 255 including those responsible for providing training and technical assistance to Federal procurement officers and those responsible for the Section 508 Web Site content.

Discussion: The priority directs the applicant to collaborate with relevant Federal agencies and other agencies as identified by NIDRR. Therefore, the applicant is not limited in the nature, scope or number of agencies to be targeted in the application for coordination efforts. The peer review process will evaluate the merits of each applicant's proposed activities.

Changes: None.

Comment: One commenter stated that Activity 7 should be expanded to include the telecommunications field.

Discussion: Telecommunications is included in the definition of electronic and information technology in the notice of proposed rule making published in the Federal Register (65 FR 17351) by the Access Board on March 31, 2000. Based on this definition NIDRR expects that telecommunications will be considered in each application.

Changes: None.

Disability and Rehabilitation Research Projects

Authority for DRRPs is contained in section 204 of the Rehabilitation Act of 1973, as amended (29 U.S.C. 764). DRRPs carry out one or more of the following types of activities, as specified in 34 CFR 350.13-350.19: research, development, demonstration, training, dissemination, utilization, and technical assistance. Disability and Rehabilitation Research Projects develop methods, procedures, and rehabilitation technology that maximize the full inclusion and integration into society, employment, independent living, family support, and economic and social self-sufficiency of individuals with disabilities, especially individuals with the most severe disabilities. In addition, DRRPs improve the effectiveness of services authorized under the Rehabilitation Act of 1973, as amended.

Priority

Under 34 CFR 75.105(c)(3) the Assistant Secretary will give an absolute preference to applications that meet the following priority. The Assistant Secretary will fund under this competition only an application that meets this absolute priority.

Priority: Information Technology Technical Assistance and Training Center

Background

The emerging digital economy is fundamentally altering the way Americans work. The advent of powerful computers, high speed modems, sophisticated telecommunications networks, fiber optics, broadband network capacity, intranets, the Internet, the World Wide Web (WWW), and satellites has enabled computer and information experts to build a global information network that is unparalleled. These technologies, and how we use them, are undergoing rapid changes that result in a new wave of information flow that touches all facets of society, including education, employment and daily living. In this period of rapid technical, economic, and social change, access to electronic and information technologies is essential for everyone. Unfortunately, while the availability of information technology holds tremendous promise to level the playing field, the proliferation of electronic and information technologies does not guarantee accessibility and usability for individuals with disabilities.

The electronic and information technology industry has been growing at more than double the rate of the overall economy—a trend that is likely to continue (The Emerging Digital Economy II, a report by the U.S. Department of Commerce, June, 1999). Because of the increase in availability of the Internet, 20 million salaried workers telecommuted from their homes last year. That number is expected to reach 130 million by 2003 (InfoTech Trends, Fourth Quarter, 1998). Electronic mail, once considered an elite mode of communication for university-based researchers and scientists, is now routinely used by workers to instantly exchange visual and audible information in readable and reusable formats (e.g., computer files, charts, figures, tables, images, databases, and software packages) using one of the estimated 14,000 Internet service providers worldwide (InfoTech Trends, Second Quarter, 1999).

In today's market, electronic and information technology product cycles are measured in months, not years. The same can be said for product lifetimes. This rapid proliferation of technologies has emphasized the need for universal design—a process whereby environments and products are designed with built-in flexibility so they are usable by as many people as possible, regardless of age and ability, at no additional cost to the user. Given the rapid evolution of each generation, new products often do not include universal design features, thus increasing the need for the expensive process of retrofitting.

Unfortunately, there is a shortage of individuals knowledgeable about the principles of universal design and the benefits of incorporating universal design features into electronic and information technologies. There is also a shortage of individuals trained to educate consumers, customer service professionals, technical writers, web developers, marketers, and other information technology related professionals about accessible and usable electronic and information technologies.

Congress has passed landmark legislation that is intended to maximize the full inclusion and integration of individuals with disabilities in society, including increased access to electronic and information technology. These laws, and their provisions, include the Hearing Aid Compatibility Act of 1988, the Television Decoder Circuitry Act of 1990, the Americans with Disabilities Act (ADA) of 1990, the Telecommunications Act of 1996, the Assistive Technology Act (AT Act) of 1998, and the Workforce Investment Act of 1998, which includes sections 504 and 508 of the Rehabilitation Act of 1973, as amended.

Section 255 of the Telecommunications Act of 1996 requires telecommunications service providers and equipment manufacturers to make their services and equipment accessible by persons with the full range of disabilities, if readily achievable. If a manufacturer or service provider claims this is not readily achievable, the manufacturer or service provider must still ensure that the equipment or service is compatible with existing peripheral devices or specialized customer premises equipment commonly used by individuals with disabilities to achieve access. On July 19, 1999, the Federal Communications Commission (FCC) adopted rules and guidelines to implement section 255 of the Telecommunications Act.

Section 508 of the Rehabilitation Act of 1973, as amended, requires access to the Federal government's electronic and information technology. Section 508 applies to all Federal departments and agencies when they develop, procure, maintain or use electronic and information technology. Federal departments and agencies must ensure equal access to, and use of, electronic and information technology for Federal employees with disabilities and members of the public seeking information or services from their agency comparable to those who do not have disabilities, unless such a requirement would cause an undue burden. The Access Board published a notice of proposed rulemaking in the Federal Register (65 FR 17345) on section 508 standards on March 31, 2000 and will publish final standards after analysis of comments received. Federal agencies will be responsible for complaints related to the procurement of accessible electronic and information technologies as of August 7, 2000. The Assistive Technology Act, 29 U.S.C. 3001, also requires that States receiving assistance, including subrecipients, under the State Grants program comply with the requirements of section 508, including the standards developed by the Access Board.

The regulations and standards for section 255 of the Telecommunications Act and section 508 of the Rehabilitation Act will have a profound impact on dozens of stakeholders, including, but not limited to, information technology manufacturers, product designers and engineers, technical writers, marketers, distributors, purchasers of information technologies, web developers and others. Currently there is a dearth of information and technical assistance available for stakeholders and other constituencies on how to comply with these regulations and standards. There is also a limited supply of skilled professionals capable of providing training and support on how to implement the requisite guidelines and standards for electronic and information technology.

A number of Federal agencies are collaborating to promote awareness about accessible electronic and information technologies, the benefits of incorporating universal design into these products, and the need for expanding capacity for training and technical assistance in this field. NIDRR, the General Services Administration, the Federal Communications Commission, and the Access Board are jointly supporting a multifaceted initiative that includes a demonstration center, multiple web pages, and technical assistance and training efforts, in partnership with industrial consortia and professional and trade associations. This priority relates to the need for expanding capacity for technical assistance and training for a broad array of constituents.

Priority: Information Technology Technical Assistance and Training Center

The Assistant Secretary proposes to establish an Information Technology Technical Assistance and Training Center to promote the wide spread use of accessible and usable electronic and information technology and to promote the benefits of universal design. In carrying out these purposes, the Information Technology Technical Assistance and Training Center must:

• Design and implement a needs assessment that will determine the technical assistance and training needs relative to: (a) Implementing the final standards under section 508 of the Rehabilitation Act; (b) the guidelines for section 255 of the Telecommunications Act; and (c) promoting the principles of universal design. The needs assessment should target audiences including, but not limited to, State procurement officers, product designers and engineers, marketers, technical writers, web developers, consumer and disability-related organizations, service providers, human resource professionals, and relevant industrial consortia and professional and trade associations;

• Based upon the findings of the needs assessment, develop, implement and evaluate relevant training materials and instructional modules that meet the requirements of section 255 of the Telecommunications Act and section 508 of the Rehabilitation Act, and address the principles of universal design;

• Develop and disseminate training materials and instructional modules to States receiving AT Act funds on implementing the requirements of section 508 and its standards;

• Provide information, training and technical assistance about section 255 of the Telecommunications Act, section 508 of the Rehabilitation Act, and the principles of universal design to appropriate constituencies, including the information technology and telecommunications industry, relevant industrial consortia, professional and trade associations, and States receiving AT Act funds;

• Collaborate with the General Services Administration, the Federal Communications Commission, and the Access Board by contributing information and materials for the Government wide web site on Section 508;

• Design and implement, in collaboration with the Federal Communications Commission, the Access Board, the Rehabilitation Engineering Research Center on Telecommunications Access and the telecommunications industry, a web site that contains information and instructional materials, including those developed under Activity 2, that can be used by telecommunications designers of equipment and services to develop and fabricate solutions that are in accordance with the guidelines for section 255 of the Telecommunications Act; and

• Identify, implement, and disseminate strategies, in collaboration with industrial consortia and professional and trade associations, that will expand training capacity of the field and increase the knowledge base about accessible and usable electronic and information technology.

In addition to the activities proposed by the applicant to carry out these purposes, the Information Technology Technical Assistance and Training Center must:

• Collaborate with industry, industrial consortia, professional and trade associations, and States receiving AT Act funds on all relevant activities;

• Coordinate on activities of mutual interest with NIDRR-funded projects including the Rehabilitation Engineering Research Centers on Information Technology Access and Telecommunications Access and the Disability and Business Technical Assistance Centers; and

• Collaborate with relevant Federal agencies responsible for the administration of public laws that address access to and usability of electronic and information technology for individuals with disabilities including, but not limited to, the General Services Administration, the Access Board, the Federal Communications Commission, the Rehabilitation Services Administration, and other relevant Federal agencies identified by NIDRR.

Additional Selection Criterion

The Assistant Secretary will use the selection criteria in 34 CFR 350.54 to evaluate applications under this program. The maximum score for all the criteria is 100 points; however, the Assistant Secretary also proposes to use the following criterion so that up to an additional ten points may be earned by an applicant for a total possible score of 110 points:

Within this absolute priority, we will give the following competitive preference to applications that are otherwise eligible for funding under this priority:

Up to ten (10) points based on the extent to which an application includes effective strategies for employing and advancing in employment qualified individuals with disabilities in projects awarded under this absolute priority. In determining the effectiveness of those strategies, we will consider the applicant's success, as described in the application, in employing and advancing in employment qualified individuals with disabilities in the project.

For purposes of this competitive preference, applicants can be awarded up to a total of 10 points in addition to those awarded under the published selection criteria for this priority. That is, an applicant meeting this competitive preference could earn a maximum total of 110 points.

Applicable Program Regulations: 34 CFR Parts 350 and 353.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free, at 1-888-293-6498; or in the Washington, DC., area at (202) 512-1530.

Note: The official version of document is the document published in the Federal Register. Free Internet access to the official edition of the Federal Register and the Code of Federal Regulations is available on GPO Access at: http://www.access.gpo.gov/nara/index.html

Program Authority: 29 U.S.C. 761a(g) and 762.

(Catalog of Federal Domestic Assistance Number 84.133A, Disability and Rehabilitation Research Projects)
Dated: July 3, 2000.
Judith E. Heumann,
Assistant Secretary for Special Education and Rehabilitative Services.

[FR Doc. 00-17384 Filed 7-7-00; 8:45 am]

BILLING CODE 4000-01-U